INTERNATIONAL TRADE COMMISSION

[Investigation No. 337-TA-827]

Certain Portable Communication Devices; Determination Not To Review Initial Determinations Terminating the Investigation as to All Respondents; Termination of Investigation

AGENCY: U.S. International Trade Commission.

ACTION: Notice.

SUMMARY: Notice is hereby given that the U.S. International Trade Commission has determined not to review initial determinations (“IDs”) (Order Nos. 14 and 15) granting joint motions to terminate the above-captioned investigation with respect to all respondents on the basis of settlement agreements. The investigation is terminated.

FOR FURTHER INFORMATION CONTACT: Jia Chen, Office of the General Counsel, U.S. International Trade Commission, 500 E Street SW., Washington, DC 20436, telephone (202) 205-4737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on January 19, 2012, based on a complaint filed on behalf of Digitude Innovations LLC of Alexandria, Virginia (“Digitude”) on December 2, 2011 and amended on December 16, 2011. 77 FR 2758 (January 19, 2012). The complaint alleges violations of Section 337 of the Tariff Act of 1930, as amended, 19 U.S.C. 1337, by reason of infringement of one or more of claims 7-13 and 15 of U.S. Patent No. 5,926,636; claims 1-9 and 17-25 of U.S. Patent No. 5,929,655; claims 1-8 and 14-20 of U.S. Patent No. 6,208,879; and claims 1-5 of U.S. Patent No. 6,456,841. The notice of investigation named the following respondents: Research In Motion Ltd. of Ontario, Canada, Research In Motion Corp. of Irving, Texas (collectively “RIM”); HTC Corporation of Taoyuan, Taiwan; HTC America, Inc. of Bellevue, Washington (collectively “HTC”); LG Electronics, Inc. of Seoul, South Korea, LG Electronics U.S.A., Inc. of Englewood Cliffs, New Jersey, LG Electronics MobileComm U.S.A, Inc. of San Diego, California (collectively “LG”); Motorola Mobility, Inc. of Libertyville, Illinois (“Motorola”); Samsung Electronics Co., Ltd of Seoul, South Korea, Samsung Electronics America, Inc. of Ridgefield Park, New Jersey, Samsung Telecommunications America, LLC of Richardson, Texas (collectively “Samsung”); Sony Corporation of Tokyo, Japan, Sony Corporation of America of New York, New York, Sony Electronics, Inc. of San Diego, California, Sony Ericsson Mobile Communications AB of Lund, Sweden, Sony Ericsson Mobile Communications (USA) Inc. of Research Triangle Park, North Carolina (collectively “Sony”); Amazon.com, Inc. of Seattle, Washington (“Amazon”); Nokia Corporation of Espoo, Finland, Nokia Inc. of Irving, Texas (collectively “Nokia”); Pantech Co., Ltd. of Seoul, South Korea, and Pantech Wireless, Inc. of Atlanta, Georgia (collectively “Pantech”).

On May 8, 2012, Digitude and respondents RIM, LG, Motorola, Samsung, Sony, Amazon, and Pantech filed a joint motion under Commission Rule 210.21(a)(2) to terminate the investigation on the basis of a settlement agreement that resolves their litigation. On May 11, 2012, Digitude and the remaining respondents HTC and Nokia also filed a joint motion under Commission Rule 210.21(a)(2) to terminate the investigation on the basis of a settlement agreement that resolves their litigation. Public and confidential versions of the agreements were attached to the motions. The motions stated that there are no other agreements, written or oral, express or implied, between the parties concerning the subject matter of this investigation. The Commission investigative attorney supported both motions. On May 31, 2012, the ALJ issued Order No. 14 granting the joint motion filed on May 8, 2012. On the same day, the ALJ issued Order No. 15 granting the joint motion filed on May 11, 2012. No petitions for review were filed.

The Commission has determined not to review the subject IDs. The investigation is terminated.

This action is taken under the authority of section 337 of the Tariff Act of 1930, as amended (19 U.S.C. 1337), and Part 210 of the Commission's Rules of Practice and Procedure (19 CFR part 210).

By order of the Commission.
Issued: June 29, 2012.
Lisa R. Barton,
Acting Secretary to the Commission.

[FR Doc. 2012-16485 Filed 7-5-12; 8:45 am]

BILLING CODE 7020-02-P